DEPARTMENT OF ENERGY

Federal Energy Regulatory Commission

[Docket No. RP03-515-001]

Dominion Transmission, Inc.; Notice of Report of Overrun/Penalty Revenue Distribution

June 20, 2003.

Take notice that on June 6, 2003, Dominion Transmission, Inc. (DTI) tendered for filing its report of overrun/penalty revenue distribution. Section 41 of the General Terms and Conditions of DTI's FERC Gas Tariff, Crediting of Unauthorized Overrun Charge and Penalty Revenues, requires distribution of such charges and revenues to non-offending customers on June 30 of each year, and filing of the related report within 30 days of the distribution.

DTI states that it distributed the penalty revenue to customers one month early, on May 30, 2003, due to a physical move of the Regulatory & Pricing Department that will be occurring in mid- to late-June.

On June 16, 2003, DTI states that it supplemented its filing by submitting a corrected version of Workpaper 2 for its report. DTI explained that the workpaper submitted with its original filing was not the final version and, accordingly, it submitted the corrected workpaper.

DTI states that copies of the transmittal letter and summary workpapers (including the corrected workpaper and the explanation of the correction) have been mailed to DTI's customers and to all interested states commissions.

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Comments, protests and interventions may be filed electronically via the Internet in lieu of paper; see 18 CFR 385.2001(a)(1)(iii) and the instructions on the Commission's Web site under the “e-Filing” link. The Commission strongly encourages electronic filings.

Protest Date: June 27, 2003.

Linda Mitry,
Acting Secretary.

[FR Doc. 03-16155 Filed 6-25-03; 8:45 am]

BILLING CODE 6717-01-P